DEPARTMENT OF COMMERCE

Foreign-Trade Zones Board

[B-101-2013]

Foreign-Trade Zone (FTZ) 230—Piedmont Triad Area, North Carolina, Notification of Proposed Production Activity, Sonoco Display and Packaging (Kitting—Gift Sets), Rural Hall and Winston-Salem, North Carolina

The Piedmont Triad Partnership, grantee of FTZ 230, submitted a notification of proposed production activity to the FTZ Board on behalf of Sonoco Display and Packaging for its facilities located in Rural Hall and Winston-Salem, North Carolina within FTZ 230. The notification conforming to the requirements of the regulations of the FTZ Board (15 CFR 400.22) was received on November 19, 2013.

Sonoco Display and Packaging already has authority to produce various cosmetic and personal hygiene gift sets within Sites 24—27 of FTZ 230. The current request would add deodorant/antiperspirant and body wash gift sets and certain foreign components to the scope of authority. Pursuant to 15 CFR 400.14(b), additional FTZ authority would be limited to the specific foreign-status materials and components and specific finished products described in the submitted notification (as described below) and subsequently authorized by the FTZ Board.

Production under FTZ procedures could exempt Sonoco Display and Packaging from customs duty payments on the foreign status components used in export production. On its domestic sales, Sonoco Display and Packaging would be able to choose the duty rates during customs entry procedures that apply to deodorant/antiperspirant and body wash gift sets (free, 4.9%) for the foreign status inputs noted below and in the existing scope of authority. Customs duties also could possibly be deferred or reduced on foreign status production equipment.

The components sourced from abroad include: plastic boxes and cases; train cases, vanity cases, component bags, wallets, various hand-held bags, and handbags and clutches of textile materials (HTSUS Subheadings 4202.12, 4202.22, 4202.29, 4202.32, 4202.92, and 4202.99); component bags of plaited natural materials; set boxes; glass trays; plush items (e.g., stuffed toys, animals); eyelash curlers; and, perfume pursers (duty rate ranges from free to 20%). Inputs included in certain textile categories (classified within HTSUS Subheadings 4202.12, 4202.22, 4202.32, and 4202.92) will be admitted to the zone under domestic (duty-paid) status or privileged foreign status (19 CFR 146.41), thereby precluding inverted tariff benefits on such items.

Public comment is invited from interested parties. Submissions shall be addressed to the FTZ Board's Executive Secretary at the address below. The closing period for their receipt is January 21, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: December 2, 2013.
Andrew McGilvray,
Executive Secretary.

[FR Doc. 2013-29334 Filed 12-6-13; 8:45 am]

BILLING CODE 3510-DS-P